FEDERAL COMMUNICATIONS COMMISSION

47 CFR Part 73

[DA 01-2567, MM Docket No. 89-120, RM-6701, RM-6999, RM-7000, RM-7001; MM Docket No. 90-195, RM-7152; MM Docket No. 91-352, RM-7866; MM Docket No. 92-214, RM-8061, RM-8144, RM 8145, RM-8146, RM-8147]

FM Broadcasting Services; Northwye, Cuba, Waynesville, Lake Ozark, and Eldon, Missouri; Brookline, Missouri; Ava, Branson, and Mountain Grove, Missouri; Columbia, Bourbon, Leasburg, Gerald, Dixon, and Cuba, Missouri

AGENCY: Federal Communications Commission.

ACTION: Final rule; petitions for reconsideration.

SUMMARY: The staff previously dismissed petitions for reconsideration in each of the above four dockets, filed by Lake Broadcasting, Inc., 66 FR 21681, published May 1, 2001; 66 FR 22450 and 66 FR 22449, published May 4, 2001. Lake filed petitions for reconsideration, arguing that these dismissals were premature. The staff disagreed, concluding that Lake's proposals to upgrade two of its stations could not be granted because those authorizations had been revoked and those decisions have become final. Further, the Commission has ordered Lake and the other formerly licensed stations controlled by Michael Rice to cease broadcast operations no later than 11:59 p.m. on October 3, 2001. See Memorandum Opinion and Order, FCC 01-300, released October 3, 2001. With this action, the proceeding is terminated.

FOR FURTHER INFORMATION CONTACT: J. Bertron Withers, Jr., Mass Media Bureau, (202) 418-2180.

SUPPLEMENTAL INFORMATION: This is a summary of the Memorandum Opinion and Order, MM Docket Nos. 89-120; 90-195; 91-352; and 92-214, adopted October 31, 2001, and released November 2, 2001. The full text of this Commission decision is available for inspection and copying during normal business hours in the Commission's Reference Information Center (room CY-A257), 445 12th Street, SW., Washington, DC 20554. The complete text of this decision may be also purchased from the Commission's copy contractor, Qualex International Portals II, 445 12th Street, SW., Room CY-B402, Washington, DC, 20554.

Federal Communications Commission.
John A. Karousos,
Chief, Allocations Branch, Policy and Rules Division, Mass Media Bureau 1.

[FR Doc. 01-29085 Filed 11-20-01; 8:45 am]

BILLING CODE 6712-01-P